DEPARTMENT OF TRANSPORTATION

Federal Aviation Administration

14 CFR Part 97

[Docket No. 30738; Amdt. No. 3386]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective August 23, 2010. The compliance date for each SIAP, associated Takeoff Minimums, and ODP is specified in the amendatory provisions.

The incorporation by reference of certain publications listed in the regulations is approved by the Director of the Federal Register as of August 23, 2010.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPs, Takeoff Minimums and/or ODPs. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on August 6, 2010.
John M. Allen,
Director, Flight Standards Service.

Adoption of the Amendment

Accordingly, pursuant to the authority delegated to me, Title 14, Code of Federal Regulations, part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Shungnak, AK, Shungnak, RNAV (GPS) RWY 9, Amdt 1

Shungnak, AK, Shungnak, RNAV (GPS) RWY 27, Amdt 1

Bessemer, AL, Bessemer, GPS RWY 23, Orig-A, CANCELLED

Bessemer, AL, Bessemer, ILS OR LOC RWY 5, Amdt 2

Bessemer, AL, Bessemer, RNAV (GPS) RWY 5, Amdt 1

Bessemer, AL, Bessemer, RNAV (GPS) RWY 23, Orig

Vernon, AL, Lamar County, Takeoff Minimums and Obstacle DP, Amdt 2

Lincoln, CA, Lincoln Rgnl/Karl Harder Field, ILS OR LOC RWY 15, Amdt 1

Lincoln, CA, Lincoln Rgnl/Karl Harder Field, RNAV (GPS) RWY 15, Orig

Paso Robles, CA, Paso Robles Muni, RNAV (GPS) RWY 19, Orig

Paso Robles, CA, Paso Robles Muni, VOR/DME RWY 19, Amdt 4

Paso Robles, CA, Paso Robles Muni, VOR/DME-B, Amdt 3

Paso Robles, CA, Paso Robles Muni, VOR OR GPS-A, Amdt 1, CANCELLED

Santa Rosa, CA, Charles M Schulz-Sonoma County, RNAV (GPS) RWY 14, Amdt 1

Colorado Springs, CO, City of Colorado Springs Muni, ILS OR LOC RWY 17L, Amdt 1

Colorado Springs, CO, City of Colorado Springs Muni, ILS OR LOC RWY 35L, Amdt 37

Colorado Springs, CO, City of Colorado Springs Muni, ILS OR LOC RWY 35R, Amdt 1

Colorado Springs, CO, City of Colorado Springs Muni, NDB RWY 35L, Amdt 26

Colorado Springs, CO, City of Colorado Springs Muni, RNAV (GPS) RWY 31, Amdt 1

Colorado Springs, CO, City of Colorado Springs Muni, RNAV (GPS) Y RWY 17L, Amdt 1

Colorado Springs, CO, City of Colorado Springs Muni, RNAV (GPS) Y RWY 35L, Orig

Colorado Springs, CO, City of Colorado Springs Muni, RNAV (GPS) Y RWY 35R, Amdt 3

Colorado Springs, CO, City of Colorado Springs Muni, Takeoff Minimums and Obstacle DP, Amdt 9

Longmont, CO, Vance Brand, RNAV (GPS) RWY 29, Amdt 1A

Windsor Locks, CT, Bradley Intl, RNAV (GPS) Y RWY 15, Amdt 1A

Palatka, FL, Palatka Muni-Lt. Kay Larkin Field, NDB RWY 9, Amdt 3

Palatka, FL, Palatka Muni-Lt. Kay Larkin Field, RNAV (GPS) RWY 9, Orig

Palatka, FL, Palatka Muni-Lt. Kay Larkin Field, RNAV (GPS) RWY 27, Orig

Tifton, GA, Henry Tift Myers, NDB RWY 33, Amdt 1

Tifton, GA, Henry Tift Myers, RNAV (GPS) RWY 28, Orig

Tifton, GA, Henry Tift Myers, RNAV (GPS) RWY 33, Orig

Tifton, GA, Henry Tift Myers, VOR RWY 28, Amdt 10

Cedar Rapids, IA, The Eastern Iowa, RNAV (GPS) RWY 8, Orig, CANCELLED

Cedar Rapids, IA, The Eastern Iowa, RNAV (GPS) RWY 9, Amdt 2

Cedar Rapids, IA, The Eastern Iowa, RNAV (GPS) RWY 26, Orig, CANCELLED

Cedar Rapids, IA, The Eastern Iowa, Takeoff Minimums and Obstacle DP, Amdt 4

Cedar Rapids, IA, The Eastern Iowa, VOR RWY 26, Orig, CANCELLED

Cedar Rapids, IA, The Eastern Iowa, VOR/DME RWY 8, Orig, CANCELLED

Cedar Rapids, IA, The Eastern Iowa, VOR/DME RWY 9, Amdt 17

Fort Madison, IA, Fort Madison Muni, RNAV (GPS) RWY 17, Orig

Fort Madison, IA, Fort Madison Muni, RNAV (GPS) RWY 35, Orig

Fort Madison, IA, Fort Madison Muni, Takeoff Minimums and Obstacle DP, Orig

Fort Madison, IA, Fort Madison Muni, VOR/DME-A, Amdt 7

Fort Madison, IA, Fort Madison Muni, VOR/DME RNAV OR GPS RWY 16, Amdt 4A, CANCELLED

Fort Madison, IA, Fort Madison Muni, VOR/DME RNAV OR GPS RWY 34, Amdt 4A, CANCELLED

Jefferson, IA, Jefferson Muni, Takeoff Minimums and Obstacle DP, Amdt 3

Cahokia/St Louis, IL, St. Louis Downtown, Takeoff Minimum and Obstacle DP, Amdt 8

Champaign/Urbana, IL, University of Illinois-Willard, GPS RWY 18, Orig-B, CANCELLED

Champaign/Urbana, IL, University of Illinois-Willard, GPS RWY 36, Orig-B, CANCELLED

Champaign/Urbana, IL, University of Illinois-Willard, LOC/DME BC RWY 14L, Amdt 8

Champaign/Urbana, IL, University of Illinois-Willard, RNAV (GPS) RWY 14L, Orig

Champaign/Urbana, IL, University of Illinois-Willard, RNAV (GPS) RWY 18, Orig

Champaign/Urbana, IL, University of Illinois-Willard, RNAV (GPS) RWY 22, Amdt 1

Champaign/Urbana, IL, University of Illinois-Willard, RNAV (GPS) RWY 36, Orig

Champaign/Urbana, IL, University of Illinois-Willard, VOR/DME RWY 14L, Orig-A

Harrisburg, IL, Harrisburg-Raleigh, NDB RWY 24, Amdt 11

Harrisburg, IL, Harrisburg-Raleigh, RNAV (GPS) RWY 6, Amdt 1

Harrisburg, IL, Harrisburg-Raleigh, RNAV (GPS) RWY 24, Amdt 2

Harrisburg, IL, Harrisburg-Raleigh, Takeoff Minimums and Obstacle DP, Amdt 1

Norton, KS, Norton Muni, NDB RWY 16, Amdt 2

Norton, KS, Norton Muni, NDB RWY 34, Amdt 2

Norton, KS, Norton Muni, RNAV (GPS) RWY 16, Amdt 1

Norton, KS, Norton Muni, RNAV (GPS) RWY 34, Amdt 1

Greenville, KY, Muhlenberg County, RNAV (GPS) RWY 23, Orig

Greenville, KY, Muhlenberg County, VOR/DME-A, Amdt 5

New Orleans, LA, Louis Armstrong New Orleans Intl, ILS OR LOC RWY 28, Amdt 8

New Orleans, LA, Louis Armstrong New Orleans Intl, LOC RWY 19, Amdt 2

New Orleans, LA, Louis Armstrong New Orleans Intl, RNAV (GPS) Y RWY 10, Amdt 1

New Orleans, LA, Louis Armstrong New Orleans Intl, RNAV (GPS) Y RWY 19, Amdt 2

New Orleans, LA, Louis Armstrong New Orleans Intl, RNAV (RNP) Z RWY 10, Orig

New Orleans, LA, Louis Armstrong New Orleans Intl, RNAV (RNP) Z RWY 19, Orig

New Orleans, LA, Louis Armstrong New Orleans Intl, RNAV (RNP) Z RWY 28, Orig

Baltimore, MD, Baltimore-Washington Intl Thurgood Marshall, Takeoff Minimums and Obstacle DP, Amdt 9

Baltimore, MD, Martin State, ILS OR LOC RWY 33, Amdt 7, CANCELLED

Baltimore, MD, Martin State, LDA RWY 33, Orig

Muskegon, MI, Muskegon County, ILS OR LOC RWY 24, Amdt 5

Muskegon, MI, Muskegon County, RNAV (GPS) RWY 6, Amdt 1

Muskegon, MI, Muskegon County, RNAV (GPS) RWY 24, Amdt 1

Farmington, MO, Farmington Rgnl, Takeoff Minimums and Obstacle DP, Amdt 5

Rolla/Vichy, MO, Rolla National, GPS RWY 4, Orig, CANCELLED

Rolla/Vichy, MO, Rolla National, RNAV (GPS) RWY 4, Orig

Rolla/Vichy, MO, Rolla National, RNAV (GPS) RWY 22, Orig

Rolla/Vichy, MO, Rolla National, Takeoff Minimums and Obstacle DP, Orig

Rolla/Vichy, MO, Rolla National, VOR RWY 22, Amdt 8

Rolla/Vichy, MO, Rolla National, VOR/DME RWY 4, Amdt 3

Rolla/Vichy, MO, Rolla National, VOR/DME RNAV OR GPS RWY 22, Amdt 2C, CANCELLED

St Joseph, MO, Rosecrans Memorial, RNAV (GPS) RWY 35, Amdt 1

St Louis, MO, Spirit of St. Louis, Takeoff Minimums and Obstacle DP, Amdt 1

Missoula, MT, Missoula Intl, GPS-D, Orig-A, CANCELLED

Missoula, MT, Missoula Intl, ILS Y RWY 11, Orig

Missoula, MT, Missoula Intl, ILS Z RWY 11, Amdt 12

Missoula, MT, Missoula Intl, RNAV (GPS)-D, Orig

Missoula, MT, Missoula Intl, VOR/DME-A, Amdt 12

Missoula, MT, Missoula Intl, VOR/DME-B, Amdt 6

Elizabethtown, NC, Curtis L Brown JR Field, GPS RWY 15, Orig, CANCELLED

Elizabethtown, NC, Curtis L Brown JR Field, GPS RWY 33, Orig, CANCELLED

Elizabethtown, NC, Curtis L Brown JR Field, RNAV (GPS) RWY 15, Orig

Elizabethtown, NC, Curtis L Brown JR Field, RNAV (GPS) RWY 33, Orig

Elizabethtown, NC, Curtis L Brown JR Field, VOR/DME RWY 15, Amdt 2

Jefferson, NC, Ashe County, LOC RWY 28, Amdt 2

Alliance, NE, Alliance Muni, ILS OR LOC/DME RWY 30, Orig

Alliance, NE, Alliance Muni, LOC/DME RWY 30, Orig-B, CANCELLED

Alliance, NE, Alliance Muni, RNAV (GPS) RWY 30, Amdt 1

Hammonton, NJ, Hammonton Muni, RNAV (GPS) RWY 3, Amdt 1

Hammonton, NJ, Hammonton Muni, VOR-A, Amdt 7

Hammonton, NJ, Hammonton Muni, VOR-B, Amdt 2

Newark, NJ, Newark Liberty Intl, ILS OR LOC RWY 11, Amdt 2

Newark, NJ, Newark Liberty Intl, ILS OR LOC RWY 22R, Amdt 5

Deming, NM, Deming Muni, RNAV (GPS) RWY 4, Amdt 1

Deming, NM, Deming Muni, RNAV (GPS) RWY 8, Orig

Deming, NM, Deming Muni, RNAV (GPS) RWY 22, Orig

Weedsport, NY, Whitfords, VOR-A, Orig-B, CANCELLED

Columbus, OH, Port Columbus Intl, RNAV (GPS) Y RWY 10L, Amdt 2

Columbus, OH, Port Columbus Intl, RNAV (GPS) Y RWY 10R, Amdt 2

Columbus, OH, Port Columbus Intl, RNAV (GPS) Y RWY 28L, Amdt 2

Columbus, OH, Port Columbus Intl, RNAV (GPS) Y RWY 28R, Amdt 1

Columbus, OH, Port Columbus Intl, RNAV (RNP) Z RWY 10L, Orig

Columbus, OH, Port Columbus Intl, RNAV (RNP) Z RWY 10R, Orig

Columbus, OH, Port Columbus Intl, RNAV (RNP) Z RWY 28L, Orig

Columbus, OH, Port Columbus Intl, RNAV (RNP) Z RWY 28R, Orig

Dayton, OH, James M Cox Dayton Intl, RADAR-1, Amdt 9, CANCELLED

Mansfield, OH, Mansfield Lahm Rgnl, RNAV (GPS) RWY 5, Orig

Mansfield, OH, Mansfield Lahm Rgnl, RNAV (GPS) RWY 23, Orig

Mansfield, OH, Mansfield Lahm Rgnl, VOR/DME RNAV OR GPS RWY 23, Amdt 6A, CANCELLED

Blackwell, OK, Blackwell-Tonkawa Muni, GPS RWY 17, Orig-A, CANCELLED

Blackwell, OK, Blackwell-Tonkawa Muni, GPS RWY 35, Orig-A, CANCELLED

Blackwell, OK, Blackwell-Tonkawa Muni, RNAV (GPS) RWY 17, Orig

Blackwell, OK, Blackwell-Tonkawa Muni, RNAV (GPS) RWY 35, Orig

Blackwell, OK, Blackwell-Tonkawa Muni, VOR-A, Amdt 4

Duncan, OK, Halliburton Field, LOC RWY 35, Amdt 5

Duncan, OK, Halliburton Field, RNAV (GPS) RWY 17, Amdt 1

Duncan, OK, Halliburton Field, RNAV (GPS) RWY 35, Amdt 1

Duncan, OK, Halliburton Field, VOR RWY 35, Amdt 12

Shawnee, OK, Shawnee Rgnl, ILS OR LOC RWY 17, Amdt 2

Shawnee, OK, Shawnee Rgnl, RNAV (GPS) RWY 17, Amdt 1

Tulsa, OK, Tulsa Intl, RNAV (GPS) RWY 8, Amdt 1

Tulsa, OK, Tulsa Intl, RNAV (GPS) Y RWY 26, Amdt 3

Tulsa, OK, Tulsa Intl, VOR/DME RWY 8, Amdt 4

Tulsa, OK, Tulsa Intl, VOR OR TACAN RWY 26, Amdt 24

Eugene, OR, Mahlon Sweet Field, GPS RWY 16R, Orig-C, CANCELLED

Eugene, OR, Mahlon Sweet Field, ILS OR LOC/DME RWY 16R, ILS RWY 16R (CAT II), ILS RWY 16R (CAT III), Amdt 36

Eugene, OR, Mahlon Sweet Field, ILS OR LOC Y RWY 16R, Orig, CANCELLED

Eugene, OR, Mahlon Sweet Field, RNAV (GPS) RWY 16R, Orig

Eugene, OR, Mahlon Sweet Field, RNAV (GPS) RWY 34L, Amdt 1

Eugene, OR, Mahlon Sweet Field, RNAV (GPS) RWY 34R, Amdt 1

Eugene, OR, Mahlon Sweet Field, Takeoff Minimums and Obstacle DP, Amdt 7

Eugene, OR, Mahlon Sweet Field, VOR-A, Amdt 7

Eugene, OR, Mahlon Sweet Field, VOR/DME OR TACAN RWY 16R, Amdt 5

Eugene, OR, Mahlon Sweet Field, VOR/DME OR TACAN RWY 34L, Amdt 5

Klamath Falls, OR, Klamath Falls, VOR/DME OR TACAN RWY 14, Amdt 5A

Bradford, PA, Bradford Rgnl, ILS OR LOC RWY 32, Amdt 12

Bradford, PA, Bradford Rgnl, RNAV (GPS) RWY 14, Amdt 1

Bradford, PA, Bradford Rgnl, RNAV (GPS) RWY 32, Amdt 1

Bradford, PA, Bradford Rgnl, RNAV (GPS) Z RWY 14, Orig-A, CANCELLED

Bradford, PA, Bradford Rgnl, VOR RWY 14, Amdt 1

Bradford, PA, Bradford Rgnl, VOR/DME RWY 14, Amdt 10

Myrtle Beach, SC, Myrtle Beach Intl, ILS OR LOC RWY 18, Amdt 2

Myrtle Beach, SC, Myrtle Beach Intl, ILS OR LOC RWY 36, Amdt 2

Myrtle Beach, SC, Myrtle Beach Intl, RNAV (GPS) RWY 18, Amdt 2

Myrtle Beach, SC, Myrtle Beach Intl, RNAV (GPS) RWY 36, Amdt 2

Myrtle Beach, SC, Myrtle Beach Intl, VOR/DME-A, Amdt 1

North Myrtle Beach, SC, Grand Strand, GPS RWY 5, Orig-A, CANCELLED

North Myrtle Beach, SC, Grand Strand, GPS RWY 23, Orig-A, CANCELLED

North Myrtle Beach, SC, Grand Strand, RNAV (GPS) RWY 5, Orig

North Myrtle Beach, SC, Grand Strand, RNAV (GPS) RWY 23, Orig

Summerville, SC, Summerville, RNAV (GPS) RWY 24, Orig-A

Corpus Christi, TX, Corpus Christi Intl, RNAV (GPS) Y RWY 13, Amdt 1A

Corpus Christi, TX, Corpus Christi Intl, RNAV (GPS) Y RWY 31, Amdt 3

Corpus Christi, TX, Corpus Christi Intl, RNAV (GPS) Y RWY 35, Amdt 1A

Houston, TX, David Wayne Hooks Memorial, VOR/DME RNAV RWY 35L, Amdt 4, CANCELLED

Lubbock, TX, Lubbock Preston Smith Intl, RNAV (GPS) Y RWY 17R, Amdt 2

Lubbock, TX, Lubbock Preston Smith Intl, RNAV (GPS) Y RWY 35L, Amdt 2

Lubbock, TX, Lubbock Preston Smith Intl, RNAV (RNP) Z RWY 17R, Orig

Lubbock, TX, Lubbock Preston Smith Intl, RNAV (RNP) Z RWY 35L, Orig

Temple, TX, Draughon-Miller Central Texas Rgnl, RNAV (GPS) RWY 2, Amdt 1

Temple, TX, Draughon-Miller Central Texas Rgnl, RNAV (GPS) RWY 15, Amdt 2

Temple, TX, Draughon-Miller Central Texas Rgnl, RNAV (GPS) RWY 33, Amdt 2

Temple, TX, Draughon-Miller Central Texas Rgnl, Takeoff Minimum and Obstacle DP, Amdt 4

Temple, TX, Draughon-Miller Central Texas Rgnl, VOR RWY 15, Amdt 18

Temple, TX, Draughon-Miller Central Texas Rgnl, VOR RWY 33, Amdt 4

Waco, TX, Waco Rgnl, GPS RWY 1, Orig-B, CANCELLED

Waco, TX, Waco Rgnl, GPS RWY 19, Orig-B, CANCELLED

Waco, TX, Waco Rgnl, ILS OR LOC RWY 19, Amdt 16

Waco, TX, Waco Rgnl, RADAR-1, Amdt 4

Waco, TX, Waco Rgnl, RNAV (GPS) RWY 1, Orig

Waco, TX, Waco Rgnl, RNAV (GPS) RWY 19, Orig

Waco, TX, Waco Rgnl, Takeoff Minimums and Obstacle DP, Orig

Leesburg, VA, Leesburg Executive, LOC RWY 17, Amdt 3

Leesburg, VA, Leesburg Executive, RNAV (GPS) RWY 17, Amdt 2

Leesburg, VA, Leesburg Executive, Takeoff Minimums and Obstacle DP, Amdt 2

Leesburg, VA, Leesburg Executive, VOR OR GPS-A, Amdt 1B, CANCELLED

Spokane, WA, Spokane Intl, ILS OR LOC/DME RWY 21, ILS RWY 21 (CAT II), ILS RWY 21 (CAT III), Amdt 22

Spokane, WA, Spokane Intl, Takeoff Minimums and Obstacle DP, Amdt 6

[FR Doc. 2010-20394 Filed 8-20-10; 8:45 am]

BILLING CODE 4910-13-P